SMALL BUSINESS ADMINISTRATION

Region X Advisory Council Meeting; Public Meeting

The Northwestern States, Regulatory Fairness Board will hold a public hearing on September 26, 2000, 12:00 p.m., at Z. J. Loussac Library, AC Assembly Chamber, located at 3600 Denali Street, Anchorage, Alaska to receive comments and testimony from small businesses and representatives of trade associations concerning regulatory enforcement or compliance actions taken by federal agencies. Transcripts of these proceedings will be posted on the Internet. These transcripts are subject only to limited review by the National Ombudsman. For further information, call Elestine Harvey (312) 353-1744.

Bettie Baca,
Counselor to the Administrator/Public Liaison.

[FR Doc. 00-18839 Filed 7-25-00; 8:45 am]

BILLING CODE 8025-01-P